DEPARTMENT OF LABOR

Office of the Secretary

Industrial Relations Promotion Project, Phase II in Vietnam

AGENCY: Bureau of International Labor Affairs, U.S. Department of Labor.

ACTION: Notice of intent to award sole source (Cooperative Agreement).

SUMMARY: The U.S. Department of Labor (USDOL), Bureau of International Labor Affairs (ILAB), intends to award a sole source award to DAI/Nathan Group LLC (DAI) for the purpose of implementing a program to strengthen compliance with international labor standards in Vietnam, focusing specifically on improving labor administration, freedom of association, collective bargaining and dispute resolution.

Total Estimated Value of the Grant/Agreement Action: $1,500,000.

Anticipated Length of Agreement: Two (2) years (9/30/2011 to 9/30/2013).

Grant Authority: Department of Labor Manual Series (DLMS)-2, Chapter 830(g)(3): The Recipient, DAI, has unique qualifications to perform the type of activity to be funded.. DAI, through its Industrial Relations Promotion Project (IRRP), is the only organization that has the recognized authority and capacity to fulfill the intent of the IRRP Phase II in Vietnam. DAI/IRRP has worked closely with the Government of Vietnam and worker and employer organizations. Given the complexity of building working relationships and trust with Vietnamese counterparts, DAI has made great strides on that front and, as a result, is uniquely positioned to be an effective implementing partner, particularly in building labor inspectorate capacity. DAI/IRRP is the only organization that can continue these efforts without interruption in support of the implementation of Vietnam's new legislation and consistent with USG trade and Labor Dialogue-related efforts. The Project will continue to work in coordination with other USAID funded DAI projects in Vietnam. DAI's Support for Trade Acceleration Project (STAR Plus) supports the Government of Vietnam's efforts to implement trade and investment reform to attract investment and promote private sector growth and has worked with the Ministry of Justice on law and judicial reform. DAI's Vietnam Competitiveness Initiative Phase II Project (VNCI) works with STAR Plus and the Government of Vietnam to improve government administration, reduce the regulatory burden on the private sector, and generate new employment. In Phase I, IRRP has engaged in a number of activities that directly support Phase II objectives. The US embassy provided a letter in support of continued funding of DAI/IRRP based, on part, on the importance of the objectives and DAI/IRRP unique qualifications to achieve them.

Recipient Involvement:

DAI will:

• Strengthen the effectiveness of Vietnam's labor administration, with a focus on the labor inspection system, its management, regulations, data collection, training, research and related areas.

• Promote collective bargaining and the prevention and resolution of collective disputes and sound industrial relations by developing approaches in cooperation with trade unions/worker organizations, employers and MOLISA.

• Help develop dispute resolution systems in new legislation for interest-based and rights-based disputes.

• Strengthen capacity in worker organizations to organize and effectively represent workers in the private sector.

Key Dates: This notice will remain open for approximately three days from posting in the Federal Register. The Cooperative Agreement is projected for award on or before September 30, 2011.

Submission Information: This funding announcement is not a request for applications. This announcement is only to provide public notice of The U.S. Department of Labor (USDOL), Bureau of International Labor Affairs intention to fund the following project activities without full and open competition.

FOR FURTHER INFORMATION CONTACT: Ms. Brenda J. White, Grant Officer. E-mail address: white.brenda.j@dol.gov. All inquiries should make reference to the USDOL Industrial Relations Promotion Project, Phase II in Vietnam.

Signed at Washington, DC, this 29th day of August, 2011.
Brenda J. White,
Grant Officer.

[FR Doc. 2011-23029 Filed 9-8-11; 8:45 am]

BILLING CODE 4510-28-P